FEDERAL COMMUNICATIONS COMMISSION

[CC Docket No. 92-237; DA 00-1458]

Next Meeting of the North American Numbering Council

AGENCY: Federal Communications Commission.

ACTION: Notice.

SUMMARY: On June 29, 2000, the Commission released a public notice announcing the July 18 and 19, 2000, meeting and agenda of the North American Numbering Council (NANC). The intended effect of this action is to make the public aware of the NANC's next meeting and its agenda.

FOR FURTHER INFORMATION CONTACT: Jeannie Grimes at (202) 418-2320 or jgrimes@fcc.gov. The address is: Network Services Division, Common Carrier Bureau, Federal Communications Commission, The Portals, 445 12th Street, SW., Suite 6A320, Washington, DC 20554. The fax number is: (202) 418-2345. The TTY number is: (202) 418-0484.

SUPPLEMENTARY INFORMATION: Released: June 29, 2000.

The North American Numbering Council (NANC) has scheduled a meeting to be held Tuesday, July 18, 2000, from 8:30 a.m. until 5 p.m., and on Wednesday, July 19, from 8:30 a.m. until 12 noon. The meeting will be held at the Federal Communications Commission, Portals II, 445 12th Street, SW., Room TW-C305, Washington, DC.

This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Jeannie Grimes at the address under FOR FURTHER INFORMATION CONTACT, stated above.

Proposed Agenda—Tuesday, June 20, 2000.

1. Approval of May 23-24 and June 20-21, 2000 meeting minutes.

2. North American Numbering Plan Administration (NANPA) Report. Status of data entry mechanisms, paragraph 53, Numbering Resource Optimization Report and Order, CC Docket 99-200 (rel. March 31, 2000).

3. North American Numbering Plan Administration (NANPA) Oversight Working Group Report. Review of NANPA improvement plan, status of future NANPA selection work plan, and auditor requirements document. Review of recommendation for NANPA compensation adjustment due to an increased volume of central office code requests and assignment activity.

4. Numbering Resource Optimization (NRO) Working Group Report. Status of development of report on individual telephone number pooling (ITN) and unassigned number porting (UNP) (paragraph 231, NRO Order). Review of recommendation concerning fee structure for reserved numbers (paragraph 25, NRO Order). Status of the development of the Numbering Resource Utilization/Forecast Report (NRUF) requirements. Status update on state number pooling trials.

5. Industry Numbering Committee (INC) Report. Status of Thousand Block Pooling Administrator guidelines.

6. Ad Hoc Voluntary UNP Study Group Report. Status of business rule model.

7. Local Number Portability Administration (LNPA) Working Group Report. Status update on NENA request for 911 standard. Wireless Number Portability Subcommittee update.

8. Number Pooling Issue Management Group (IMG) Report. Review of Pooling Administrator (PA) technical requirements (paragraph 155, NRO Order).

9. Limited Liability Corporations (LLCs) and Number Portability Administration Centers (NPAC) activity update.

10. North American Billing and Collection (NBANC) Report.

Wednesday, July 19, 2000

11. Steering Group Report.

12. Cost Recovery Working Group Report.

13. NANC Discussion Group on charging for telephone numbers.

14. Discussion to reconsider creation of an Issue Management Group to focus on the use of numbering resources by emerging Internet-related services, i.e., unified messaging services.

15. Public participation (5 minutes each, if any).

16. Other Business.

17. Action Items and Decisions Reached.

Federal Communications Commission
Diane Griffin Harmon,
Deputy Chief, Network Services Division, Common Carrier Bureau.

[FR Doc. 00-16864 Filed 7-3-00; 8:45 am]

BILLING CODE 6712-01-P